NUCLEAR REGULATORY COMMISSION

[Docket No. 52-007]

Exelon Generation Company, LLC; Correction; Notice of Public Meeting on the Draft Environmental Impact Statement for an Early Site Permit (ESP) at the Exelon ESP Site; Correction

AGENCY: Nuclear Regulatory Commission.

ACTION: Notice of public meeting; correction.

SUMMARY: This document corrects a notice appearing in the Federal Register that announced a public meeting to be held to discuss the Draft Environmental Impact Statement for an ESP at the Exelon ESP Site and to accept public comments. This action is necessary to correct an erroneous street address in the April 8, 2005 notice (70 FR 18063).

FOR FURTHER INFORMATION CONTACT: Mr. Thomas Kenyon, Project Manager, Office of Nuclear Reactor Regulation, telephone (301) 415-1120.

SUPPLEMENTARY INFORMATION: In the April 8, 2005 notice (70 FR 18063) on page 18063, in the second column, the street address is changed from “401 N. Center Street” to “701 Illini Drive.”

Dated at Rockville, Maryland, this 12th day of April 2005.
For the Nuclear Regulatory Commission.
Samson S. Lee,
Acting Program Director, License Renewal and Environmental Impacts Program, Division of Regulatory Improvement Programs, Office of Nuclear Reactor Regulation.

[FR Doc. 05-7566 Filed 4-14-05; 8:45 am]

BILLING CODE 7590-01-P